DEPARTMENT OF THE INTERIOR

Bureau of Indian Affairs

[256A2100DD/AAKC001030/A0A501010.999900]

Prairie Island Indian Community; Amendments to Liquor Control Ordinance

AGENCY: Bureau of Indian Affairs, Interior.

ACTION: Notice.

SUMMARY: This notice publishes amendments to the Prairie Island Indian Community's Liquor Control Ordinance. This Ordinance amends and supersedes the existing Prairie Island Mdewakanton Dakota Community Liquor Control Ordinance, adopted on July 10, 1992, by Resolution Number 92-84; and amended on October 14, 1992, by Resolution Number 92-118.

DATES: This ordinance shall become effective December 18, 2024.

FOR FURTHER INFORMATION CONTACT: Sherrel LaPointe, Tribal Operations Officer, Midwest Regional Office, Bureau of Indian Affairs, 5600 American Boulevard West, Suite 500, Bloomington, Minnesota 55437, Telephone: (612) 725-4500, Fax: (612) 713-4401.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On August 9, 2023, the Prairie Island Indian Community Council adopted the amendments to the Community's Liquor Control Ordinance by Resolution Numbers 23-8-9-150. This Federal Register Notice comprehensively amends and supersedes the existing Prairie Island Indian Community Liquor Control Ordinance which was published in the Federal Register on December 1, 1992 (57 FR 56960).

This notice is published in accordance with the authority delegated by the Secretary of the Interior to the Assistant Secretary—Indian Affairs. I certify that the Prairie Island Indian Community Tribal Council duly adopted these amendments to the Prairie Island Indian Community Liquor Control Ordinance on August 9, 2023.

Bryan Newland,
Assistant Secretary-Indian Affairs.

The Prairie Island Indian Community's Liquor Control Ordinance, as amended, shall read as follows:

Prairie Island Indian Community

Liquor Control Ordinance

Section 1. Short Title. This Ordinance shall be known and may be cited as the Prairie Island Indian Community Liquor Control Ordinance.

Section 2. Statement of Purpose, Findings, and Authority.

a. Purpose. It is the Community's policy to ensure that any transaction, importation, sale, or consumption involving an alcoholic beverage, while within the Tribe's jurisdiction, shall occur in strict compliance with this Ordinance, the laws of the United States and the State of Minnesota.

b. Findings. [reserved].

c. Authority. This Ordinance is an exercise of the inherent sovereignty of the Community and shall be deemed an exercise of the Community Council's power to protect the welfare, health, peace, morals, and safety of the people of the Community.

Section 3. Definitions.

a. “Community” means the Prairie Island Indian Community in the State of Minnesota, a federally recognized Indian Tribe.

b. “Community Council” means the constitutionally authorized governing body of the Community.

c. “Alcoholic beverage” means any intoxicating liquor, low point beer, or any wine, as defined under the provisions of this Ordinance.

d. “Application” means a formal written request for the issuance of a license supported by a verified statement of facts.

e. “Community” means the Prairie Island Indian Community in the State of Minnesota, a federally recognized Indian Tribe.

f. “Community Council” means the constitutionally authorized governing body of the Community.

g. “Establishment” means any liquor store or any on- or off-sale dealer.

h. “High point beer” means any beer having an alcoholic content in excess of three and two-tenths per centum (3.2%) of weight.

i. “Intoxicating liquor” means any liquid either commonly used, or reasonably adapted to use, for beverages purposes containing in excess of three and two-tenths per centum (3.2%) of alcohol by weight. This shall include any type of wine, regardless of alcoholic content.

j. “Legal age” means the age requirements as defined in Section 16.

k. “Liquor store” means any store, established by the Community or licensed individual or entity, for the sale of alcoholic beverages.

l. “Low point beer” means any liquid either commonly used, or reasonably adapted to use, for beverage purposes, and which is produced wholly or in part from brewing of any grain or grains, malt substitute, and which contains any alcohol whatsoever, but no more than three and two-tenths per centum (3.2%) of alcohol by weight.

m. “Off-sale” means the sale of any alcoholic beverages for consumption off the premises where sold.

n. “On-sale dealer” means the Community or licensed individual or entity that sells, or keeps for sale any alcoholic beverage authorized under this Ordinance for consumption on the premises where sold.

o. “On-sale” means the sale of any alcoholic beverage for consumption only upon the premises where sold.

p. “Reservation” means all territory subject to the Community's jurisdiction.

q. “Sale” means the transfer of any bagged, bottled, boxed, canned or kegged alcoholic beverage, or the serving of any contents of any bagged, bottled, boxed, canned or kegged alcoholic beverage for a consideration of currency exchange.

r. “Transaction” means any transfer of any bagged, bottled, boxed, canned, or kegged alcoholic beverage, or the transfer of any contents of any bagged, bottled, boxed, canned or kegged alcoholic beverage from any liquor store, on-sale dealer or vendor to any person.

s. “Vendor” means any person employed or under the supervision by and of a liquor store or on-sale dealer who conducts sales or transactions involving alcoholic beverages.

t. “Wine” means any beverage containing alcohol obtained by the fermentation of the natural sugar contents of fruits or other agricultural products, and containing not more than seventeen percent (17%) of alcohol by weight, including sweet wines, fortified with wine spirits, such as port, sherry, muscatel, and angelica.

Section 4. Applicability. [reserved]

Section 5. General Prohibition. It shall be unlawful to manufacture for sale, sell, offer, or keep for sale, possess, transport or conduct any transaction involving any alcoholic beverage except in compliance with the terms, conditions, limitations, and restrictions specified in this Ordinance.

Section 6. Community Control of Alcoholic Beverages. The Council shall have the sole and exclusive right to authorize the importation of alcoholic beverages for sale or for the purpose of conducting transactions therewith, and no person or organization shall so import any such alcoholic beverage into the Reservation unless authorized by the Council.

Section 7. Community Liquor Store. The Council may establish and maintain anywhere on the Reservation that the Council may deem advisable, a community liquor store or stores for storage and off-sale of alcoholic beverages in accordance with the provisions of this Ordinance. The Council may set the prices of alcoholic beverages sold.

Section 8. Community On-Sale Dealer. The Council may establish and maintain anywhere on the Reservation that the Council may deem advisable, a community on-sale dealer or dealers for storage and on-sale of alcoholic beverages in accordance with the provisions of this Ordinance. The Council may set the prices of alcoholic beverages sold.

Section 9. State of Minnesota Licenses. The Council shall notify the State of Minnesota of any Community operated establishment that sells alcoholic beverages or conducts transactions involving alcoholic beverages in compliance with Minn. Stat. 340A.4055.

Section 10. Liability Insurance. For the purpose of complying with 18 U.S.C. 1161 and the Minnesota Liquor Act, the Council, or any entity licensed by the Council, shall demonstrate proof of financial responsibility to the State of Minnesota by obtaining the necessary liability insurance required by Minn. Stat. 340A.409.

Section 11. License Restrictions, General.

a. License Posting. A retail license to sell alcoholic beverages must be posted in a conspicuous place in the premises for which it is used.

b. Gambling Compliance. Gambling on premises where alcoholic beverages are to be sold must be in compliance under the Indian Gaming Regulatory Act of 1988, 25 U.S.C. 2701, et. seq. and Chapter 349 and 349A of the Minnesota Statutes.

c. License Limited to Space Specified. A retail license to sell any alcoholic beverage is only effective for the compact and contiguous space specified in the approved license application.

Section 12. License Restrictions; Intoxicating Liquor Licenses.

a. Investigation of On-Sale Licenses. The Community Council shall appoint a person to cooperate with any city or county official in the conduct of any preliminary background and/or financial investigation for the purposes of complying with Minn. Stat. 304A.412. However, nothing in this section shall mean and be construed to be a waiver of the Community's sovereign immunity and shall allow any city or county official to conduct any investigation not specifically authorized by the Community Council as documented by a written resolution.

b. Off-sale limitation. The Community shall not apply for more than one off-sale intoxicating liquor license.

c. General compliance. The Community Council shall comply with all prohibitions as stated in Minn. Stat. 340A.412, Subd. 4.

d. Employment of Minors. No person under 18 years of age may serve or sell intoxicating liquor on the Prairie Island Indian Reservation.

Section 13. Restrictions on the Number of Intoxicating Liquor Licenses that May Be Issued.

a. Referendum for Additional On-Sale Licenses. The Community Council may issue on-sale intoxicating liquor licenses over the number permitted under Section 13 when authorized by the voters of the Community at a general or special election.

b. Referendum Questions. The Community Council may direct that either of the following questions be placed on the ballot.

1. “Shall the Community Council be allowed to issue `on-sale' licenses for the sale of intoxicating liquor at retail in excess of the number permitted by law?”

2. “Shall the Community Council be allowed to issue (a number to be determined by the governing body) `on-sale' licenses for the sale of intoxicating liquor at retail in excess of the number now permitted by law?”

Section 14. Responsibility of Licensee. Every licensee is responsible for the conduct in the licensed establishment and any sale of alcoholic beverages by any employee authorized to sell alcoholic beverages in the establishment is the act of the licensee for the purposes of all provisions of this Ordinance.

Section 15. Sales to Obviously Intoxicated Persons. No person may sell, give, furnish, or in any way procure for another alcoholic beverages for the use of an obviously intoxicated person. Nothing herein shall be construed as a waiver of the Community's sovereign immunity from suit for any violation of this section by a licensee or employee of a Community facility.

Section 16. Persons Under 21 Years of Age; Restrictions.

a. The Council shall enforce the State of Minnesota laws regarding restrictions on those persons under the age of 21 years in any Community establishment operating pursuant to the provisions of this Ordinance.

b. No Community operated or licensed establishment shall sell, barter, furnish, give or allow to be consumed therein alcoholic beverages to and by a person under 21 years of age.

c. Any Community operated or licensed establishment shall require proof of age for purchasing or consuming alcoholic beverages by requiring a valid driver's license or State of Minnesota identification card, or in the case of a foreign national a valid passport to be shown at any time deemed necessary while on the premises of a Community operated or licensed establishment.

d. Any Community operated or licensed establishment shall prohibit all persons under the age of 21 years to enter the establishment except to:

1. perform work if the person is 18, 19, or 20 years of age;

2. consume meals while accompanied by an adult who is the legal guardian or parent of the person; or

3. attend social functions that are held in a portion of the establishment where alcoholic beverages are not sold.

e. No Community operated or licensed establishment shall employ any person under the age of 18 years to serve or sell alcoholic beverages.

Section 17. Hours and Days of Sale.

a. No Community operated or licensed establishment shall sell or furnish alcoholic beverages for on-sale purposes between 1:00 a.m. and 8:00 a.m. on the days of Monday through Saturday, after 1:00 a.m. on Sundays, or otherwise not in compliance with Minn. Stat. 340A.504.

b. No Community operated or licensed establishment shall sell or furnish alcoholic beverages for off-sale purposes: (1) on Sundays; (2) before 8:00 a.m. on Monday through Saturday; (3) after 10:00 p.m. on Monday through Saturday; or (4) otherwise not in compliance with Minn. Stat. 340A.504.

Section 18. Sales of Ethyl and Neutral Spirits Prohibited. No person may sell at retail for beverage purposes ethyl alcohol or neutral spirits, or substitutes thereof, possessing the taste, aroma, and characteristics generally attributed to ethyl alcohol or neutral spirits. Nothing in this section prohibits the manufacture or sale of other products obtained by use of ethyl alcohol or neutral spirits as defined in U.S. Treasury Department, Bureau of Internal Revenue, Regulations 125, Article II, Standards of Identity for Distilled Spirits.

Section 19. Power to License and Tax. The power to establish licenses and levy taxes under the provisions of this Ordinance is vested exclusively with the Council.

Section 20. Community Liquor Licenses. The Council shall issue by resolution, upon proper application and Council approval, a Community liquor license to any establishment wishing to sell, serve, or furnish alcoholic beverages or conduct transactions involving alcoholic beverages within the boundaries of the Reservation.

Section 21. Classes of Licenses. Classes of Community licenses under this Ordinance shall be as follows:

a. Class A Off-Sale Liquor store; and

b. Class B On-Sale Dealer

Section 22. Community Operated Establishments. The Council shall issue by resolution one appropriate license to a Community operated establishment upon determining the site for the establishment, creating an operating infrastructure for the establishment and obtaining the appropriate licensing from the State of Minnesota.

Section 23. No Licenses Issued. The Council shall not issue any licenses to any person or entity other than the Community until this Ordinance is properly amended to authorize the licensing of non-Community persons or entities.

Section 24. Display of Community License. Any establishment licensed pursuant to the provisions of this Ordinance shall display the Community license in a conspicuous place.

Section 25. Distribution of Profits. All profits from the sale of alcoholic beverages on the Reservation are subject to distribution of the Council in accordance with its usual appropriation procedures for essential governmental and social services.

Section 26. Records. [reserved]

Section 27. Miscellaneous Provisions.

a. Sovereign Immunity. Nothing in this Ordinance shall be construed as a waiver of the Prairie Island Indian Community in the State of Minnesota's sovereign immunity.

b. Severability. If any provision of this Ordinance or its application to any person or circumstance is held invalid, the remainder of this Ordinance, or the application of the provision to other persons or circumstances is not affected.

c. Amendment or Repeal of Ordinance. This Ordinance may be amended or repealed only by a majority vote of the Council in regular session.

[FR Doc. 2024-26812 Filed 11-15-24; 8:45 am]

BILLING CODE 4337-15-P